ENVIRONMENTAL PROTECTION AGENCY

[EPA-HQ-OPP-2024-0093; FRL-12578-01-OCSPP]

Cancellation Order for Certain Pesticide Registrations and/or Amendments To Terminate Uses (From December 18, 2024 Notice)

AGENCY: Environmental Protection Agency (EPA).

ACTION: Notice.

SUMMARY: This notice announces EPA's order for the cancellations and/or amendments to terminate uses, voluntarily requested by the registrants and accepted by the Agency, pursuant to the Federal Insecticide, Fungicide, and Rodenticide Act (FIFRA). This cancellation order follows a December 18, 2024, Federal Register Notice of Receipt of Requests from the registrants listed in Table 3 of Unit II to voluntarily cancel and/or amend to terminate uses of all these product registrations. In the December 18, 2024, notice, EPA indicated that it would issue an order implementing the cancellations and/or amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested cancellations and/or amendments to terminate uses. Any distribution, sale, or use of the products subject to this cancellation order is permitted only in accordance with the terms of this order, including any existing stocks provisions.

DATES: The cancellations and/or amendments are effective August 5, 2025.

FOR FURTHER INFORMATION CONTACT: Christopher Green, Registration Division (7505T), Office of Pesticide Programs, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2024-0093, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744. Please review the visitor instructions and additional information about the docket available at https://www.epa.gov/dockets.

II. What action is the Agency taking?

This notice announces the cancellations and/or amendments to terminate uses, as requested by registrants, of products registered under FIFRA section 3 (7 U.S.C. 136a). These registrations are listed in sequence by registration number in Tables 1 and 2 of this unit.

Table 1—Product Cancellations
Registration No. | Company No. | Product name | Active ingredients
279-9546 | 279 | F6119 Turf and IVM Herbicide | 2,4-D, 2-ethylhexyl ester (030063/1928-43-4)—(65.52%), Carfentrazone-ethyl (128712/128639-02-1)—(1.44%).
7401-38 | 7401 | Ferti-Lome Liquid Carbaryl Home Garden Spray | Carbaryl (056801/63-25-2)—(23.7%).
7401-69 | 7401 | Ferti Lome Garden Dust | Carbaryl (056801/63-25-2)—(5%).
7401-166 | 7401 | Hi-Yield 10% Carbaryl Garden Dust | Carbaryl (056801/63-25-2)—(10%).
8378-10 | 8378 | Shaw's Crabgrass Control and Fertilizer | Benfluralin (084301/1861-40-1)—(1.15%).
8378-11 | 8378 | Shaw's Professional Crabgrass Control and Fertilizer | Benfluralin (084301/1861-40-1)—(.92%).
8378-31 | 8378 | Shaw's Sevin 430 Turf Insect Granules + Fertilizer | Carbaryl (056801/63-25-2)—(4.3%).
8378-35 | 8378 | Balan 2.5G | Benfluralin (084301/1861-40-1)—(2.5%).
8378-36 | 8378 | Shaw's Sevin 143 Turf Insect Granules + Fertilizer | Carbaryl (056801/63-25-2)—(1.43%).
9198-234 | 9198 | The Andersons Bicarb Lawn Insect Killer Granules | Bifenthrin (128825/82657-04-3)—(.058%), Carbaryl (056801/63-25-2)—(2.3%).
70804-1 | 70804 | UltraFloc AlgaeSolve II | Copper sulfate pentahydrate (024401/7758-99-8)—(25%).
94278-4 | 94278 | Ethephon 75% MUP | Ethephon (099801/16672-87-0)—(75%).
PA-160001 | 56228 | Gonacon—Equine | Gonadotropin Releasing Hormone (116800/9034-40-6)—(.032%).
TX-090006 | 59639 | Esteem Ant Bait | Pyriproxyfen (129032/95737-68-1)—(.5%).
WA-070007 | 62719 | DMA 4 IVM | 2,4-D, dimethylamine salt (030019/2008-39-1)—(46.3%).
WA-080009 | 70506 | Ethephon 2 | Ethephon (099801/16672-87-0)—(21.7%).
WA-200004 | 68506 | UVASYS | Sodium metabisulfite (111409/7681-57-4)—(36.5%).

Table 2—Product Registration Amendments To Terminate Uses
Registration No. | Company No. | Product name | Active ingredient | Uses to be terminated
42750-400 | 42750 | Albaugh Thiamethoxam Technical | Thiamethoxam (060109/153719-23-4)—(98.5%) | Non-seed treatment uses.
61842-27 | 61842 | Sinbar WDG Agricultural Herbicide | Terbacil (012701/5902-51-2)—(80%) | Grass seed crops and pears.
74712-5 | 74712 | Avancid GL 45M | Glutaraldehyde (043901/111-30-8)—(45%) | Beet sugar mills and beet sugar mills process water systems. Paper mills and paper mills process water systems. Pigments and filler slurries for food contact paper and paperboard. Water based coatings for food contact paper and paperboard. Aqueous metalworking fluids. Animal production facilities and farm equipment.
74712-6 | 74712 | Avancid GL 25 | Glutaraldehyde (043901/111-30-8)—(25%) | Dairy sweet water systems. Hydrostatic sterilizers and retorts. Pasteurizers and warmers. Beet sugar mills and beet sugar mills process water system. Paper mills and paper mills process water systems. Pigments and filler slurries for food contact paper and paperboard. Water based coatings for food contact paper and paperboard. Aqueous metalworking fluids. In-can preservative for food contact adhesives and mineral slurries used in papermaking.
74712-7 | 74712 | Avancid GL 45 | Glutaraldehyde (043901/111-30-8)—(45%) | Dairy sweet water systems. Hydrostatic sterilizers and retorts. Pasteurizers and warmers. Beet sugar mills and beet sugar mills process water systems. Paper mills and paper mills process water systems. Pigments and filler slurries for food contact paper and paperboard. Water based coatings for food contact paper and paperboard. Aqueous metalworking fluids. In-can preservative for food contact adhesives and mineral slurries used in papermaking.
74712-8 | 74712 | Avancid GL 50M | Glutaraldehyde (043901/111-30-8)—(50%) | Beet sugar mills and beet sugar mills process water systems. Paper mills and paper mills process water systems. Pigments and filler slurries for food contact paper and paperboard. Water bases coatings for food contact paper and paperboard. Aqueous metalworking fluids. Animal production facilities and farm equipment.
74712-9 | 74712 | Avancid GL 50 | Glutaraldehyde (043901/111-30-8)—(50%) | Dairy sweet water systems. Hydrostatic sterilizers and retorts. Pasteurizers and warmers. Beet sugar mills and beet sugar mills process water systems. Paper mills and paper mills process water systems. Pigments and filler slurries for food contact paper and paperboard. Water based coatings for food contact paper and paperboard. Aqueous metalworking fluids. In-can preservative for food contact adhesives and mineral slurries used in papermaking.
74712-10 | 74712 | Avancid GL 15 | Glutaraldehyde (043901/111-30-8)—(15%) | Dairy sweet water systems. Hydrostatic sterilizers and retorts Pasteurizers and warmers. Beet sugar mills and beet sugar mills process water systems. Paper mills and paper mills process water systems. Pigments and filler slurries for food contact paper and paperboard. Water based coatings for food contact paper and paperboard. Aqueous metalworking fluids. In-can preservative for food contact adhesives and mineral slurries used in papermaking.
87811-1 | 87811 | Willowood Tebuconazole Technical | Tebuconazole (128997/107534-96-3)—(98.5%) | Wood protection uses.
101563-130 | 101563 | Spirotetramat 240 SC Greenhouse and Nursery Insecticide/Miticide | Spirotetramat (392201/203313-25-1)—(22.4%) | All crop uses, non-bearing fruit and nut trees, and vegetable plants.

Table 3 of this unit includes the names and addresses of record for all registrants of the products in Tables 1 and 2 of this unit, in sequence by EPA company number. This number corresponds to the first part of the EPA registration numbers of the products listed above.

Table 3—Registrants of Cancelled and/or Amended Products
EPA Company Number | Company Name and Address
279 | FMC Corporation, 2929 Walnut Street, Philadelphia, PA 19104.
7401 | Voluntary Purchasing Groups, Inc., Agent Name: Pyxis Regulatory Consulting, Inc., 4110 136th Street Ct., NW, Gig Harbor, WA 98332.
8378 | Knox Fertilizer Company, Inc., Agent Name: Wagner Regulator Associates, P.O. Box: 640, Hockessin, DE 19707-0640.
9198 | The Andersons, Inc., 1947 Briarfield Blvd., P.O. Box: 119, Maumee, OH 43537.
42750 | Albaugh, LLC, 1525 NE 36th Street, Ankeny, IA 50021.
56228 | U.S. Department of Agriculture, Animal and Plant Health Inspection Service, 4700 River Road, Unit 149,Riverdale, MD 20737.
59639 | Valent U.S.A., LLC, 4600 Norris Canyon Road, P.O. Box: 5075, San Ramon, CA 94583.
61842 | Tessenderlo Kerley, Inc., Agent Name: Pyxis Regulatory Consulting, Inc., 4110 136th Street Ct., NW, Gig Harbor, WA 98332.
62719 | Corteva Agriscience, LLC, 9330 Zionsville Road, Indianapolis, IN 46268.
68506 | Tessara (Pty) Ltd., Agent Name: Pyxis Regulatory Consulting, Inc., 4110 136th Street Ct., NW, Gig Harbor, WA 98332.
70506 | Arysta LifeScience North America, LLC, Agent Name: UPL NA, Inc.,630 Freedom Business Center, Suite 402, King of Prussia, PA 19406.
70804 | USALCO, LLC, 2601 Cannery Avenue, Baltimore, MD 21226.
74712 | Special Materials Company, Agent Name: Toxcel, LLC, 7140 Heritage Village Plaza, Gainesville, VA 20155.
87811 | Willowood Tebuconazole, LLC, Division Name: C/O Generic Crop Science, LLC, 1887 Whitney Mesa Drive, #9740, Henderson, NV 89014-2069.
94278 | Oasis Chemicals, LLC, 4511 11th Street, Lubbock, TX 79416.
101563 | Environmental Science U.S., LLC, 5000 Centregreen Way, Suite 400, Cary, NC 27513.

III. Summary of Public Comments Received and Agency Response to Comments

During the public comment period provided, EPA received no comments in response to the December 18, 2024, Federal Register notice announcing the Agency's receipt of the requests for voluntary cancellations and/or amendments to terminate uses of products listed in Tables 1 and 2 of Unit II.

IV. Cancellation Order

Pursuant to FIFRA section 6(f) (7 U.S.C. 136d(f)(1)), EPA hereby approves the requested cancellations and/or amendments to terminate uses of pesticide registrations identified in Tables 1 and 2 of Unit II. Accordingly, the Agency hereby orders that the product registrations identified in Tables 1 and 2 of Unit II, are canceled and/or amended to terminate the affected uses. The effective date of the cancellations that are subject of this notice is August 5, 2025. Any distribution, sale, or use of existing stocks of the products identified in Tables 1 and 2 of Unit II, in a manner inconsistent with any of the provisions for disposition of existing stocks set forth in Unit VI, will be a violation of FIFRA.

V. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of December 18, 2024, (89 FR 102888) (FRL-12084-01-OCSPP). The comment period closed on January 17, 2025.

VI. Provisions for Disposition of Existing Stocks

Existing stocks are those stocks of registered pesticide products which are currently in the United States, and which were packaged, labeled, and released for shipment prior to the effective date of the action. The existing stocks provision for the products subject to this order is as follows.

For voluntary cancellations, the registrants may continue to sell and distribute existing stocks of products listed in Table 1 until Thursday, August 6, 2026, which is 1 year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute products listed in Table 2 of Unit II, under the previously approved labeling until Friday, April 9, 2027, a period of 18 months after publication of the cancellation order in the Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and/or products whose labels include the terminated uses until supplies are exhausted, provided that such sale, distribution, or use is consistent with the terms of the previously approved labeling on, or that accompanied, the canceled products and/or terminated uses.

(Authority: 7 U.S.C. 136 et seq.)

Dated: July 31, 2025.
Charles Smith,
Director, Registration Division, Office of Pesticide Programs.

[FR Doc. 2025-14820 Filed 8-4-25; 8:45 am]

BILLING CODE 6560-50-P